DEPARTMENT OF ENERGY

Federal Energy Regulatory Commission

[Project Nos. 7921-007 and 7922-005]

Notice of Transfer of Exemptions: Tridam Energy LLC; Alpine Pacific Utilities Hydro, LLC

1. By letter filed July 9, 2018, Alpine Pacific Utilities Hydro, LLC informed the Commission that two projects were transferred to them from Tridam Energy LLC, effective July 2018. The projects are: (1) Otis Falls Project No. 7921, originally issued March 11, 1985 ¹ located on the Souhegan River in Hillsboro County, New Hampshire and (2) Chamberlain Falls Project No. 7922, originally issued March 11, 1985 ² located on the Souhegan River in Hillsboro County, New Hampshire. Transfer of an exemption does not require Commission approval.

¹ Order Granting Exemption from Licensing of a Small Hydroelectric Project 5 Megawatts or Less. Alden T. Greenwood, 30 FERC ¶ 62,267 (1985).

² Order Granting Exemption from Licensing of a Small Hydroelectric Project of 5 Megawatts or Less. Alden T. Greenwood, 30 FERC ¶ 62,257 (1985).

2. Alpine Pacific Utilities Hydro, LLC is now the exemptee of the Chamberlain Falls Project No. 7921 and the Otis Falls Project No. 7922. All correspondence should be forwarded to: Mr. Justin D. Ahmann, President, Alpine Pacific Utilities Hydro, LLC, 75 Somers Road, Somers, Montana 59932, Phone: 406-393-2127, Email: justin@apec-mt.com.

Dated: July 17, 2018.
Kimberly D. Bose,
Secretary.

[FR Doc. 2018-15702 Filed 7-20-18; 8:45 am]

BILLING CODE 6717-01-P